ENVIRONMENTAL PROTECTION AGENCY

40 CFR Part 63

[EPA-HQ-OAR-2002-0058; FRL-8252-2]

RIN 2060-AN32

National Emission Standards for Hazardous Air Pollutants for Industrial, Commercial, and Institutional Boilers and Process Heaters: Reconsideration of Emissions Averaging Provision and Technical Corrections

AGENCY: Environmental Protection Agency (EPA).

ACTION: Final rule; notice of final action on reconsideration.

SUMMARY: EPA is promulgating amendments to the National Emission Standards for Hazardous Air Pollutants (NESHAP) for Industrial, Commercial, and Institutional Boilers and Process Heaters. After promulgation of this final rule, the Administrator received petitions for reconsideration of certain provisions in the final rule. Subsequently, EPA published a notice of the reconsideration and requested public comment on proposed amendments to the NESHAP. After evaluating public comments, we are adopting each of the amendments that we proposed.

DATES: This final rule is effective on February 5, 2007. The incorporation by reference of certain publications listed in this final rule is approved by the Director of the Office of Federal Register as of February 5, 2007.

ADDRESSES: EPA has established a docket for this action under docket ID No. EPA-HQ-OAR-2002-0058. All documents in the docket are listed on the http://www.regulations.gov Web site. Although listed in the index, some information is not publicly available, e.g., confidential business information (CBI) or other information whose disclosure is restricted by statute. Certain other material, such as copyrighted material, is not placed on the Internet and will be publicly available only in hard copy form. Publicly available docket materials are available either electronically through http://www.regulations.gov or in hard copy at the Air and Radiation Docket and Information Center, EPA/DC, EPA West Building, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Mr. James Eddinger, Energy Strategies Group, Sector Policies and Programs Division (D243-01), Environmental Protection Agency, Research Triangle Park, North Carolina 27711; telephone number: (919) 541-5426, fax number: (919) 541-5450, e-mail address: eddinger.jim@epamail.epa.gov.

SUPPLEMENTARY INFORMATION:

Regulated Entities. Categories and entities potentially regulated by the final rule:

Category | NAICS code | Examples of potentially regulated entities
Any industry using a boiler or process heater in the final rule | 321 | Manufacturers of lumber and wood products.
| 322 | Pulp and paper mills.
| 325 | Chemical manufacturers.
| 324 | Petroleum refiners and manufacturers of coal products.
| 316, 326, 339 | Manufacturers of rubber and miscellaneous plastic products.
| 331 | Steel works.
| 332 | Electroplating, plating, polishing, anodizing, and coloring.
| 336 | Manufacturers of motor vehicle parts and accessories.
| 221 | Electric, gas, and sanitary services.
| 622 | Health services.
| 611 | Educational Services.

This table is not intended to be exhaustive, but rather provides a guide for readers regarding entities likely to be regulated by this final rule. To determine whether your facility would be regulated by this final rule, you should carefully examine the applicability criteria in 40 CFR 63.7485 of this final rule. If you have any questions regarding the applicability of this final rule to a particular entity, contact the person listed in the preceding FOR FURTHER INFORMATION CONTACT section.

WorldWide Web (WWW). In addition to being available in the docket, an electronic copy of this final rule will be available on the WWW through the Technology Transfer Network Web site (TTN). EPA has posted a copy of the final rule on the TTN's policy and guidance page for newly proposed or promulgated rules at http://www.epa.gov/ttn/oarpg. The TTN provides information and technology exchange in various areas of air pollution control.

Judicial Review. Under section 307(b)(1) of the Clean Air Act (CAA), judicial review of the final rule is available only by filing a petition for review in the U.S. Court of Appeals for the District of Columbia Circuit by February 5, 2007. Under CAA section 307(d)(7)(B), only an objection to the final rule that was raised with reasonable specificity during the period for public comment can be raised during judicial review. Moreover, under CAA section 307(b)(2), the requirements established by today's final action may not be challenged separately in any civil or criminal proceedings brought by EPA to enforce these requirements.

Background Information Document. EPA proposed and provided notice of the reconsideration of the NESHAP for industrial, commercial, and institutional boilers and process heaters on October 31, 2005 (70 FR 62264) and received 17 comment letters on the proposal. A memorandum “National Emission Standards for Hazardous Air Pollutants for Industrial, Commercial, and Institutional Boilers and Process Heaters, Summary of Public Comments and Responses to GE Petition and Reconsideration of the Final Rule,” containing EPA's responses to each public comment is available in Docket No. EPA-HQ-OAR-2002-0058.

Organization of this document: The information presented in this preamble is organized as follows:

I. Statutory Authority for the Final Rule

II. Background

III. What changes are included in this final rule?

A. American Society for Testing and Materials (ASTM) Test Methods

B. Utility Steam Generating Units

C. Fuel Analysis Requirement

D. Consolidated Testing

1. Compliance With Consolidated Testing

2. Monitoring of Common Stack

3. Emissions Averaging when Units in Different Subcategories are Ducted to Common Stack

4. Continuous Compliance With the Emissions Averaging Provision

5. Monthly Compliance Demonstrations and Calculations

E. Definitions

IV. Responses to Significant Comments

A. Scope of Emissions Averaging Provision

B. Compliance Testing and Monitoring

C. Definitions

D. Testing Methods

V. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions Concerning Regulations That Significantly Affect Energy Supply, Distribution, or Use

I. National Technology Transfer and Advancement Act

J. Congressional Review Act

I. Statutory Authority for the Final Rule

Section 112 of the Clean Air Act (CAA) requires us to list categories and subcategories of major sources and area sources of hazardous air pollutant (HAP) and to establish NESHAP for the listed source categories and subcategories. Industrial boilers, commercial and institutional boilers, and process heaters were listed on July 16, 1992 (57 FR 31576). Major sources of HAP are those that have the potential to emit greater than 10 tons per year (tpy) of any one HAP or 25 tpy of any combination of HAP.

II. Background

On September 13, 2004 (69 FR 55218), we promulgated the NESHAP for industrial, commercial, and institutional (ICI) boilers and process heaters (Boilers NESHAP) as subpart DDDDD of 40 CFR part 63 under section 112(d) of the CAA. The NESHAP contain technology-based emissions standards reflecting the maximum achievable control technology and a health-based compliance alternative for certain threshold pollutants. We proposed these standards for ICI boilers and process heaters on January 13, 2003 (68 FR 1660).

In the preamble for the January 2003 proposed rule, we discussed our consideration of a bubbling compliance alternative and requested comment on incorporating a bubbling compliance alternative (i.e., emission averaging) into this final rule as part of EPA's general policy of encouraging the use of flexible compliance approaches where they can be properly monitored and enforced. (See 68 FR 1686.) Industry trade associations, owners/operators of boilers and process heaters, State regulatory agencies, local government agencies, and environmental groups submitted comments on the emissions averaging approach. We received a total of 40 public comment letters regarding the emissions averaging approach in the proposed rule during the comment period. We summarized major public comments on the proposed emissions averaging approach, along with our responses to those comments, in the preamble to the final rule (69 FR 55238) and in the memorandum “Response to Public Comments on Proposed Industrial, Commercial, and Institutional Boilers and Process Heaters NESHAP (Revised)” (RTC Memorandum) which was placed in the docket for the final rule.

In the September 2004 final rule, we adopted an emissions averaging provision for existing large solid fuel boilers. The procedures that affected sources must use to demonstrate compliance through emissions averaging were promulgated at 40 CFR 63.7522. (See 69 FR 55257.) For each existing large solid fuel boiler in the averaging group, the emissions are capped at the emission level being achieved on the effective date of the final rule (November 12, 2004). Under emissions averaging provision in the 2004 final rule, compliance must be demonstrated on a 12-month rolling average basis, determined at the end of every calendar month. If a facility uses this option, it must also develop and submit an implementation plan to the applicable regulatory authority for review and approval no later than 180 days before the date that the facility intends to demonstrate compliance.

Following promulgation of the emissions averaging provision in the final rule, the Administrator received a petition for reconsideration pursuant to section 307(d)(7)(B) of the CAA from General Electric (GE). Under this section, the Administrator is to initiate reconsideration proceedings if the petitioner can show that it was impracticable to raise an objection to a rule within the public comment period or that the grounds for the objection arose after the public comment period.

GE requested that EPA reconsider portions of the emissions averaging provision that it believes could not have been practicably addressed during the public comment period. In the alternative, GE requested clarification that the final rule already allows for consolidated testing of commonly vented boilers. By a letter dated April 27, 2005, we informed GE that we intended to grant their petition for reconsideration. On October 31, 2005, we published a notice of reconsideration and proposed amendments to the final rule (70 FR 62264).

In the notice of reconsideration of the emissions averaging provision, we proposed amendments to 40 CFR 63.7522 and solicited comment in the following areas: (1) Allowing testing of a common stack in situations where each of the units vented to the common stack are in the existing solid fuel subcategory; (2) treating a group of boilers that vent through a common emissions control system to a common stack as a single existing solid fuel boiler for the purpose of subpart DDDDD of 40 CFR part 63; (3) treating a group of boilers that vent through more than one common emissions control system as distinct units and requiring individual compliance testing according to the methods specified in Table 8 to subpart DDDDD; (4) demonstrating compliance with opacity limits using a single continuous opacity monitoring system (COMS) located in the common stack if each of the boilers venting to the common stack has an applicable opacity limit; (5) treating certain common stack situations as a single emission point for purposes of averaging emissions with other existing large solid fuel boilers located at the facility.

In addition, our October 31, 2005 notice of proposed rulemaking included several corrections to subpart DDDDD of 40 CFR part 63 that were not related to emissions averaging. Several clarifying amendments addressed: (1) The applicability of firetube boilers in the small unit subcategories and limited use subcategories; (2) the definitions of firetube and watertube boilers with respect to “hybrid boilers”; and (3) the equivalent methods allowed in Table 6 to subpart DDDDD. The proposed corrections include language that: (1) Excludes electric utility steam generating units that are covered by 40 CFR part 60, subpart Da or 40 CFR part 60, subpart HHHH; (2) adds Equation 4A to subpart DDDDD for calculating a 12-month rolling average emission rate when using the emissions averaging option; (3) requires an oxygen monitor to be installed when a carbon monoxide monitor is required by the rule; and (4) updates American Society of Testing and Materials (ASTM) test methods in Table 6 to subpart DDDDD.

A comprehensive response to public comments is available in a document entitled “National Emission Standards for Hazardous Air Pollutants for Industrial, Commercial, and Institutional Boilers and Process Heaters, Summary of Public Comments and Responses to GE Petition and Reconsideration of the Final Rule,” which can be found in the docket (Docket No. EPA-HQ-OAR-2002-0058).

III. What Changes Are Included in This Final Rule?

In this final action, we are making a limited number of corrections and amendments to 40 CFR 63.14 and sections 63.7491, 63.7510, 63.7522, 63.7525, 63.7540, 63.7541, 63.7575, and Table 6 of subpart DDDDD consistent with our October 2005 proposal. These changes improve and clarify the procedures for implementing the emissions averaging provision and for conducting compliance testing when boilers are vented to a common stack. Among other technical corrections, we also are clarifying several definitions to help affected sources classify “limited use” and “hybrid” boilers. We have modified some of regulatory language that we proposed based on public comments, but overall, we are adopting amendments to the emission averaging provision and other provision in subpart DDDDD that are in substantially the same form as what we proposed in October 2005.

A. American Society for Testing and Materials (ASTM) Test Methods

We are adopting the proposed revisions relating to ASTM test methods without change. As suggested by the ASTM, we are amending Table 6 to subpart DDDDD to reflect updated ASTM test methods. Similar changes are also being made to 40 CFR 60.14 (Incorporation by Reference) of the General Provisions. Additionally, we are publishing in Table 1 of this preamble a list of testing methods that EPA previously reviewed and approved for use as “alternative” methods that are considered “equivalent” for the purpose of Table 6 to subpart DDDDD.

Table 1.—List of Equivalent Methods Approved as of February 15, 2005
Pollutant or Analyte | EPA-approved equivalent method
Arsenic | SW-846-7060.ᵃ SW-846-7060A.
Chlorine | ASTM D2361.
Hydrogen Chloride | SW-846-5050. SW-846-9056. SW-846-9076. SW-846-9250. ASTM E776-87.
Mercury | EPA Method 1631E. SW-846-1631. ASTM D6722-01. EPA 821-R-01-013.
Higher Heating Value | ASTM E711-87 (1996). ASTM D240.
Moisture content of Coal Fuel | ASTM D2691-95.
Moisture Analysis | EPA 160.3 Mod.
Digestion Procedure | EPA-821-R-01-03. ASTM D586 (Dry Ash method).
Sample Preparation for TSM | SW-846-3050B.
Sample Preparation and Digestion for TSM | SW-846-3050. TAPPI T266.
Sample Preparation and Grinding | ASTM E829-94.
Selenium | SW-846-7740.
Total Selected Metals | EPA 200.8. ASTM D6357-04. ASTM D4606-03. EPA 7060A. SW-846-6020A. SW-846-6020.
ᵃ http://www.epa.gov/epaoswer/hazwaste/test/sw846.htm.

This table is not meant to be exhaustive, because the list of equivalent methods is dynamic. This table is meant to serve as guidance for the methods that have been approved to date. We emphasize that equivalent methods may be used in lieu of the prescribed methods in Table 6 to subpart DDDDD at the discretion of the source owner or operator. Therefore, maintaining a list of “approved methods” in the final rule is not necessary. Similarly, approval of equivalent methods by EPA or the delegated implementation authority is not necessary.

B. Utility Steam Generating Units

We are adopting the regulatory language that we proposed to avoid overlapping coverage between subpart DDDDD of 40 CFR part 63 and other rules that apply to certain types of electric utility steam generating units. The types of boilers and process heaters that are not subject to subpart DDDDD are listed in 40 CFR 63.7491. Our intention was to exempt from subpart DDDDD any units that are already or will be subject to regulation for HAP under another standard. (See 69 FR 1663.) Because regulations relating to electric utility steam generating units were under development at the time of promulgation of subpart DDDDD, we were unable to reference a specific rule citation that applied to electric utility steam generating units. Instead, subpart DDDDD excluded electric utility steam generating units by using only the definition of electric utility steam generating units contained in section 112(a)(8) of the CAA.

On May 18, 2005, EPA promulgated the Clean Air Mercury Rule (70 FR 28606). In that rule, EPA established standards of performance for mercury (40 CFR part 60, subpart Da) from new electric utility steam generating units, as well as mercury emission guidelines for existing electric utility steam generating units (40 CFR part 60, subpart HHHH). After that rule was promulgated, it was brought to our attention that the scope of the exclusion in subpart DDDDD of 40 CFR part 63 for electric utility steam generating units was unclear. Confusion resulted because 40 CFR part 60, subparts Da and HHHH, employ different definitions to determine applicability. (See 70 FR at 28609.) Thus, to clarify applicability of subpart DDDDD, we are amending 40 CFR 63.7491(c) to exclude “an electric utility steam generating unit (including a unit covered by 40 CFR part 60, subpart Da) or a Mercury Budget unit covered by 40 CFR part 60, subpart HHHH.”

C. Fuel Analysis Requirement

We received a comment raising the question of whether we intended for units which combust only a single fuel type to be required to conduct fuel analysis when demonstrating compliance through performance (stack) testing, as required by 40 CFR 63.7510(a). Our intent, as stated in the September 2004 preamble to the final rule (69 FR 55225), was that “Units burning only a single fuel type (not including startup fuels) do not need to determine, by fuel analysis, the fuel inlet operating limit when conducting performance tests.” In this final action, we are adding similar language to 40 CFR 63.7510(a) to make this understanding explicit in the text of our regulations. This change was not included among the corrections we proposed in October 2005. However, since this revision is based on language in the September 2004 preamble that has not given rise to any objection, we are adopting this correction as part of this final rule.

D. Consolidated Testing and Emissions Averaging

The current language for the emissions averaging option in 40 CFR 63.7522 requires testing of each individual boiler in the averaging group. Our intent with regard to the emissions averaging option in the final rule was to provide an equivalent, more flexible, and less costly compliance alternative. Since testing emissions from a common stack for a group of boilers would be equivalent to the average emissions calculated from emissions tests on each individual boiler, we are amending subpart DDDDD of 40 CFR part 63 to allow testing of emissions at the common stack under specified situations described below.

Consolidated testing of the common stack must be conducted when each boiler is operated under representative testing conditions as specified in the National Stack Testing Guidance issued by EPA on September 30, 2005.

The amendments to 40 CFR 63.7522 adopted in this action are substantially the same as what we proposed in October 2005. However, based on public comments, we have modified some of the proposed language and added some conforming amendments to other provisions of subpart DDDDD of 40 CFR part 63 that relate to emissions averaging.

1. Compliance With Consolidating Testing

GE sought clarification on the consolidated testing procedures necessary to demonstrate compliance in two different common stack situations. In one situation, the exhaust from three existing large solid fuel boilers are combined and vented through a common emissions control system to a common stack. In the other situation, the exhaust from two existing large solid fuel boilers are each individually controlled prior to being vented to a common stack. In the revised regulatory provisions set forth below, we are amending this final rule to clarify how to demonstrate compliance under these two circumstances. The final amendments address these two circumstances in the same way that we proposed in October 2005.

In the first situation, a group of units that share a common control device before venting to a common stack is treated as a single source. In such situations, an operator can demonstrate compliance by testing at the common stack without using the emissions averaging equations in 40 CFR 63.7522 for each unit or submitting an implementation plan. We are also adding language in section 63.7522(k) of subpart DDDDD to clarify that the common stack situations described above may be treated as a separate single emission point for purpose of including these units in an emissions averaging group with other existing large solid fuel boilers located at the facility.

We are adopting a slightly different approach for averaging emissions from groups of affected units that vent to a common stack through more than one emissions control system. These distinct approaches are necessary to ensure that a source with more than one emissions control system demonstrates continuous compliance at each emissions control system. Where a group of boilers vents to a common stack through more than one emission control system, continuous compliance will be demonstrated according to the methods specified in Table 8 to subpart DDDDD.

2. Monitoring of Common Stack

In this final action, we are adding an amendment to section 63.7541 of subpart DDDDD to address the COMS requirements for facilities participating in the emissions averaging option. If each of the boilers venting to a common stack has an applicable opacity operating limit, a dry control system, and no units from other subcategories or nonaffected units vent to the common stack, then a single COMS may be located in the common stack instead of each duct to the common stack. Alternately, if any of the boilers venting to the common stack does not have an applicable opacity operating limit, but each of the existing solid fuel units is equipped with a dry control system and no nonaffected units vent to the common stack, a COMS monitor may be located at the common stack instead of each duct to the common stack. We amended 40 CFR 63.7541 to allow for a COMS monitor at the common stack in this situation.

We discussed this approach in the October 2005 proposal (70 FR at 62268), but did not include any regulatory language in that action. Commenters requested that we make explicit in our regulations that this practice is permissible when sources elect to demonstrate compliance using emissions averaging.

3. Emissions Averaging When Units in Different Subcategories Are Ducted to Common Stack

In response to the GE petition for reconsideration, we proposed amendments that would limit the emissions averaging provision to common stack scenarios that contained solely units in the existing large solid fuel subcategory. In this final action, we have decided to expand the emissions averaging provision to allow units in the existing large solid fuel subcategory to conduct performance tests at the end of a common stack configuration with affected units from other subcategories and nonaffected units under specific circumstances.

As a result of public comments submitted, we now recognize that affected units from several subcategories (e.g., both gas and solid fuel fired units) and nonaffected units are sometimes ducted to a common stack. To address these situations, we are adopting a revised amendment to the emissions averaging provision in 40 CFR 63.7522 that allows consolidated testing of units in the existing large solid fuel subcategory as long as the commonly vented units from other subcategories and nonaffected units follow specific procedures during the consolidated compliance test.

The emissions averaging provision is only applicable to units in the existing large solid fuel subcategory. EPA did not find cause to promulgate emissions limitations for many of the subcategories of existing units. However, new units are subject to different emissions limitations than existing units. These differing emissions limitations make it difficult to allow consolidated testing of emissions from sources in different subcategories under an emissions averaging approach.

However, to eliminate this obstacle to consolidated testing when existing large solid fuel units may share a duct or stack with units in other subcategories or nonaffected units covered by another NESHAP category, we are requiring facilities to shut down, or vent to a different stack, affected boilers or process heaters in other subcategories or nonaffected units in other categories prior to performing a consolidated compliance test for the units in the large solid fuel subcategory. Testing of a common stack in these situations will measure the average emissions from the averaging group of existing large solid fuel units, just as if each boiler in the large solid fuel subcategory was tested individually and their emissions averaged. By requiring the affected units from other subcategories or nonaffected units to be shut off, or vented to a different stack, during testing, the consolidated testing for certain stack configurations allows the group of existing large solid fuel boilers to demonstrate initial compliance at a lower cost.

Allowing the testing of a common stack under these conditions also satisfies the criteria discussed in the September 2004 preamble to the final rule (69 FR 55239) that EPA has generally imposed on the scope and nature of emissions averaging programs. These criteria include: (1) No averaging between different types of pollutants, (2) no averaging between sources that are not part of the same major source, (3) no averaging between sources within the same major source that are not subject to the same NESHAP, and (4) no averaging between existing sources and new sources. This final rule fully satisfies each of these criteria.

The provision promulgated in this action only allows averaging of emissions from existing units in the large solid fuel subcategory. Emissions from units that are shut down or vented elsewhere during compliance testing are not included in the average or co-mingled with the emissions that are the focus of the test.

4. Continuous Compliance With the Emissions Averaging Provision

As a result of this expansion to the emissions averaging provision, we had to establish continuous compliance procedures with this provision to address common stack scenarios with units from multiple subcategories or nonaffected units. In this final rule, we are also amending 40 CFR 63.7541 to establish continuous compliance procedures under the emissions averaging provision for common stack configurations with different subcategories or nonaffected units. These amendments require affected units to maintain 3-hour average parametric limits on all the control devices for existing large solid fuel boilers venting to a common stack. The parametric limits will ensure that the control devices continue to operate under the conditions established during the initial compliance test. These amendments establish continuous compliance requirements for common stack configurations that were not previously eligible to comply with the emissions averaging provision.

5. Monthly Compliance Demonstrations and Calculations

This final rule includes several additional amendments to subsections (d), (e), and (f) of section 63.7522 that were recommended in public comments. These amendments clarify that, under the emissions averaging provision, continuous compliance must be demonstrated at the end of every month (12 times per year). In addition, we have made several corrections to the formulas used in emissions averaging calculations. Additional details on these amendments are reflected in the Response-to-Comments document that is available in Docket No. EPA-HQ-OAR-2002-0058.

E. Definitions

In the October 2005 notice, we proposed to add or amend several definitions in subpart DDDDD of 40 CFR part 63 to clarify our intent and correct inadvertent omissions. In this final action, we are adopting modified versions of several definitions based on public comments. In addition, we are promulgating three additional definitions to provide additional clarity requested by commenters.

We have added a definition for “common stack” similar to the definition provided in 40 CFR part 72 at the request of some of the commenters.

We have also added a definition for “voluntary consensus standards” since this term is used to define “equivalent” as this term is used in Table 6 of subpart DDDDD. We are adopting the same definition of “equivalent” that we proposed, but we have added language to Table 6 of subpart DDDDD to clarify that equivalent methods may be used in lieu of the prescribed methods in Table 6 at the discretion of the source owner or operator.

The definitions for both “firetube boiler” and “watertube boiler” are amended to include criteria for classifying boilers designed with both firetubes and watertubes, commonly referred to as “hybrid boilers.” Based on comments, we are adopting a modified definition of firetube boiler to include boilers that utilize a containment shell that encloses firetubes and allows the water to vaporize and steam to separate. We have also modified the definition of watertube boilers that we proposed to include boilers that incorporate a steam drum with tubes connected to the drum to separate steam from water.

We have amended the proposed definitions for both small gaseous and small liquid fuel subcategories to clarify that these subcategories include all firetube boilers, regardless of size, as well as other types of boilers with a rated capacity of 10 million MMBtu per hour heat input or less. We have amended the definitions to clarify our intent that firetube boilers greater than 10 MMBtu per hour heat input are still part of the small subcategory.

We have also added an amendment to the definitions for both the small and large gaseous fuel subcategories to allow for units in these two categories to periodically test using liquid fuel as long as the tests do not exceed a combined total of 48 hours during any calendar year. This allowance was adopted because of the need to test an emergency fuel in order to ensure that the unit could effectively operate using the emergency fuel during a period of gas curtailment. California regulations stipulate a 48-hour limit on this periodic testing on emergency fuels, and we have adopted their precedent.

We are also amending the definition of “fuel type” in response to a comment we received. Questions have been raised on whether we intended for units that may burn evidence seized in drug raids as a public service for a variety of enforcement agencies to test these materials as part of the compliance testing requirements. It is reportedly exceedingly difficult to arrange for a test of these materials given the security that surrounds them. Also, facilities have been approached about burning retired U.S. flags. Burning is the preferred mode of disposal of retired U.S. flags. Since we did not intend to include contraband materials, or U.S. flags, as a fuel when a facility is conducting performance tests or fuel analyses to demonstrate compliance, we are amending the definition of “fuel type” to include the statement “Contraband, prohibited goods, or retired U.S. flags, burned at the request of a government agency, are not considered a fuel type for the purpose of this subpart.” We do not classify facilities designed and operated for energy recovery as commercial and industrial solid waste incinerators if they combust small amounts of others materials. (See 70 FR 55568, 55575; September 22, 2005.)

A revision to the definition of “fuel type” was not included among the corrections that we proposed. However, since this amendment addresses a de minimis situation that supports law enforcement efforts and respect for a national symbol, we are adopting this correction in this final action.

IV. Responses to Significant Comments

We received 17 public comment letters on the proposed rule and notice of reconsideration. Complete summaries of all the comments and EPA responses are found in the Response-to-Comments document (see SUPPLEMENTARY INFORMATION section). The most significant comments are summarized below.

A. Scope of Emissions Averaging Provision

Comment: Several commenters requested that EPA expand the common stack testing option to include common stack configurations with groups of boilers from different subcategories or units not subject to the boiler NESHAP. Two of these commenters added that in many situations the layout of boilers and ductwork to common stacks make it impractical to perform emissions testing on each individual boiler venting to the common stack due to a lack of appropriate sampling location and duct configurations. One commenter (OAR-2002-0058-0722) added that in order to test each individual unit a source would have to build a temporary testing system of stacks and ductwork to demonstrate initial compliance, and this temporary system would still not be suitable for demonstrating continuous compliance. The commenter contended that without expanding the testing to groups of boilers from different source categories venting to a common stack, the NESHAP would require a source to reconfigure its ductwork and build new stacks.

One commenter approved of EPA's amendments to allow common stack performance testing under the circumstances provided in the proposed amendments.

Response: We agree in part with the commenters' recommendation and have modified the rule to allow performance testing to be conducted at the end of stacks that receive emissions from boilers from different subcategories and nonaffected units in other NESHAP categories, as long as the emissions from these other units are stopped or redirected as described further below. However, we do not consider it appropriate to allow averaging of emissions from units in other subcategories or nonaffected units or consolidated testing of co-mingled emissions from units in other subcategories or nonaffected units. EPA has generally imposed limits on emissions averaging programs, which includes no averaging between emission units that are not part of the same source category. Since these units are generally subject to different emissions limitations, averaging or co-mingling of emissions would not provide a reliable demonstration of compliance with the applicable emissions limitation for those sources in a particular category or subcategory.

Nevertheless, we do consider it appropriate under specified conditions described further below to allow testing at the end of the common stack for existing large solid fuel units at facilities with stack configurations that contain units from other subcategories (e.g., gas-fired units) and nonaffected units. EPA has established a clear and enforceable method for demonstrating initial, annual, and continuous compliance when units of different subcategories and nonaffected units vent to a common stack. Further, extending the common stack testing option to these stack configurations will not cause adverse effects to human health or the environment. The total emissions out of the stack will not increase as a result of this extension and compliance with the emission limits of each unit feeding the common stack will be determined by parametric limits on the control device through which the units vent to the common stack.

Facilities that have common stack configurations consisting of units subject to the boiler NESHAP and units from other source categories also have the prerogative to petition for alternate testing and compliance plans on a site-specific basis.

B. Compliance Testing and Monitoring

Comment: Several commenters suggested an alternative methodology to meet the requirements of initial and annual compliance tests for units opting to use the emissions averaging provision. These commenters suggested that during the initial and subsequent annual compliance tests, all boilers venting to the common stack that are not subject to emission limits be turned off (i.e. gas-fired units or nonaffected units). These commenters suggested that shutting down units of different subcategories or nonaffected units would satisfy the requirements of the boiler NESHAP. One commenter added that these methods will still provide reliable test data to the regulatory authorities to demonstrate compliance. One commenter added that since many large solid fuel units share a stack with gas-fired units, the NESHAP, as proposed in the notice of reconsideration, would require individual performance testing on each large solid fuel boiler, which would greatly increase the costs of testing compliance and increase system downtime.

Response: We agree that turning off units from other subcategories (e.g., gas-fired units) and nonaffected units during the testing period, satisfies the requirements of the boiler NESHAP emissions averaging provision. Allowing the testing of a common stack, when units from other subcategories and nonaffected units are turned off satisfies the criteria that EPA has generally imposed on the scope and nature of emissions averaging programs. These criteria include: (1) No averaging between different types of pollutants, (2) no averaging between sources that are not part of the same major source, (3) no averaging between sources within the same major source that are not subject to the same NESHAP, and (4) no averaging between existing sources and new sources. The provision promulgated in this action only allows averaging of emissions from existing units in the large solid fuel subcategory. Emissions from units that are shut down or vented elsewhere during compliance testing are not included in the average or co-mingled with the emissions that are the focus of the test.

Facilities that have common stack configurations, with units subject to the boiler NESHAP and nonaffected units, have the prerogative to petition for alternate testing and compliance plans on a site-specific basis. The type of testing discussed here is one example of an alternate testing and compliance plan that a facility would petition for on a site-specific basis. We have adjusted the rule language in 40 CFR 63.7522(h) to allow for shutting down units from other subcategories and nonaffected units to demonstrate compliance with the emissions averaging provision when units belonging to different subcategories of the boiler NESHAP and nonaffected units vent to the same stack as large solid fuel boilers.

Comment: Two commenters suggested that parametric limits be set on all control devices used on solid fuel fired units and that these parametric limits be used to demonstrate continuous compliance with the emissions averaging provision of the boiler NESHAP. These commenters added that parametric limits on the control devices for existing large solid-fuel boilers would ensure that these control devices operated under the conditions established during the initial compliance test and provide a defensible way to demonstrate continuous compliance with the emissions averaging provision of the boiler NESHAP. One commenter suggested that parametric compliance limits be set on any control device in the group of units sharing a common stack, regardless of whether the conditions are wet or dry in the stack.

Response: We agree that setting parametric limits on all control devices for existing large solid-fuel boilers venting to a common stack is an acceptable method for demonstrating continuous compliance with the emissions averaging provision of the boiler NESHAP. These parametric limits are a clear and enforceable method of demonstrating compliance. We have adjusted the rule language in 40 CFR 63.7541 to allow for a facility to demonstrate continuous compliance under the emissions averaging provision by using parametric limits on the control devices of existing large solid fuel units venting to a common stack.

Comment: One commenter requested that EPA allow for a COMS at a common stack even when a source does not make use of the emissions averaging provision and opts to do performance testing on individual boilers. The commenter added that this regulatory flexibility will reduce compliance costs and maintain adequate levels of emissions monitoring.

Two commenters requested that EPA clarify 40 CFR 63.7525(b) to allow a COMS to be located at the common stack, regardless of whether the group of boilers sharing a common stack consists of boilers of different subcategories. One commenter suggested that it did not believe EPA intended to require a COMS on individual units sharing a common stack. The commenter added that it is impractical, due to a lack of space or adequate location, to install individual COMS monitors in the duct work for groups of boilers that share a common stack. The commenter cites 40 CFR part 60, appendix B, Performance Specification (PS)-1, to reference that in many cases this requirement has been satisfied by placing a COMS on the common stack.

One commenter suggested that language be added to 40 CFR 63.7522(j)(3) to indicate that a COMS monitor is required at a common stack, even when each individual boiler unit has a separate opacity operating limit. The commenter is concerned that without additional language, 40 CFR 63.7522(j)(3) could be misinterpreted to require a COMS in each duct leading to the common stack. The commenter noted that although there is discussion of this intent in the preamble (70 FR 62268), the commenter suggested that there be language added to this effect in the actual rule text. The commenter also suggested that language be added to 40 CFR 63.7541(a)(2) to clarify that a single COMS monitor for a group of units that each vents through a unique control system and then to a common stack. The commenter suggested this language is necessary so that this group of units is treated similarly to a group of units venting through a common control device to a common stack with respect to the requirements of a COMS.

Response: We agree with these suggestions as long as all units feeding the common stack are in the existing large solid fuel subcategory. The emissions averaging provision was intended to be an option for affected facilities to allow for increased regulatory flexibility. We reiterate here that if a source chooses to do performance testing for HAP emissions at each individual unit, the source is still eligible to locate a COMS monitor on the common stack as long as all the units feeding the common stack are in the existing large solid fuel subcategory.

We disagree with the commenter's suggestion to allow for a COMS monitor to be located at the common stack when groups of boilers from different affected subcategories or nonaffected units are feeding the stack. We also disagree with allowing a single COMS unit to be placed on the common stack if the units feeding the common stack belong to other source categories.

C. Definitions

Comment: Several commenters requested that EPA modify the definitions of firetube and watertube boilers to account for hybrid boilers. The commenters suggested that EPA make the distinction between the two units based on the location of the containment or steam separation system in the unit in order to clarify the basic difference between fire tube and water tube units. Three commenters added that water tube units incorporate a steam drum, which provides for steam separation from water, whereas a fire tube unit uses a containment shell, inside which the water vaporizes and steam separates. One commenter suggested that a water tube boiler be defined as a boiler that has a water tube type of steam drum, with no additional heat exchange surface in the form of fire tubes running through the drum. The commenter suggested that a fire tube boiler be defined as any hybrid type of boiler where steam separation takes place in a vessel that also contains fire tubes that provide the major heat input to the water. The commenter added that this approach will simplify interpretation of this definition. Two commenters requested that EPA adopt the following addition to the definition of firetube boiler to account for hybrid boilers: “All owners or operators of hybrid boilers that have been registered/certified by the National Board of Boiler and Pressure Vessel Inspectors and/or the State as firetube boilers as indicated by “Form P-2” (Manufacturers Data Report For All Types of Boilers Except Watertube and Electric As Required by the Provisions of the American Society of Mechanical Engineers (ASME) Code Rules, Section I) shall be considered small units for the purpose of this subpart.”

Response: We agree with the distinction between a firetube and watertube boiler using the criteria of whether a unit has a containment shell or a steam drum. We consider the ASME Code Rules and Forms to be an acceptable and established method for classifying vessel types. We have modified the proposed definitions of watertube and firetube boilers to allow a facility to classify its hybrid vessel by one of two methods: (1) Determining whether or not the unit has a steam drum or containment system, or (2) the indication of firetube boiler on the ASME P-2 form.

Comment: Two commenters requested that the definition for large gaseous fuel units be changed to allow for units to combust oil during periods of natural gas supply emergencies or natural gas curtailment. The commenters added that if the unit combusts oil for periodic testing under these circumstances, this unit should not be automatically categorized in the large oil fuel subcategory.

Response: We agree that it is necessary for gas-fired units that are designed for combusting oil during periods of natural gas curtailment to periodically tune the unit for proper oil firing and combustion to be prepared for such periods. Based on review of current regulations in California regarding equipment testing of non-gaseous fuel, periodic testing of oil is allowed for a combined total of 48 hours during any calendar year. This periodic testing for up to 48 hours, which is in addition to periods of combusting oil during natural gas curtailment, will not cause a boiler to be categorized in the oil fuel subcategories. We have amended the definitions to clarify that gas boilers that fire liquid fuel for the purposes of periodic testing are not included in the liquid fuel subcategories.

D. Testing Methods

Comment: Several commenters requested that EPA list some specific examples of equivalent methods in Table 6 to subpart DDDDD. The commenters specifically added that since the promulgation of the NESHAP, EPA has received and approved many site-specific requests for the use “equivalent” methods. The commenters requested that any approved methods be added to Table 6.

Another commenter disagreed with deleting test method ASTM D3684-01 from Table 6 to subpart DDDDD. The commenter added that this test method should be retained in Table 6, and the final revised table should indicate that this test method is applicable for determining both arsenic and selenium.

Two commenters requested that the latest revisions of following test methods be listed in Table 6 to subpart DDDDD: ASTM D3684 for coal mercury analysis, ASTM D3683 for coal total selected metals, and ASTM D4208 for coal chlorine content. These commenters added that these methods have a long history as established standard methods. By adding these methods to Table 6, sources or testing companies would not have to petition for approval of these established methods. These commenters also added that many coal chlorine levels exceed the upper bound (1136 parts per million) on the concentration range for repeatability and reproducibility on ASTM D6721, and that ASTM D4208 is a more appropriate testing method on coals with high chlorine concentrations.

Two commenters recommended that EPA provide authority to the States for approving equivalent testing methods that have already been accepted by EPA on multiple similar site-specific requests. The commenters added that providing authority to the States is an efficient way to determine approved equivalent testing methods.

Response: With this action, we have clarified the definition of equivalent method. Equivalent methods are voluntary consensus standards (VCS) or EPA methods which are applicable to the fuel type or target analyte being measured. Although we disagree with adding a complete list of equivalent methods already approved to the final rule itself, we have provided a list of these previously approved methods in the preamble to the final rule. We have also added a definition of VCS to the final rule to help clarify what equivalent methods are. Equivalent methods may be used in lieu of the prescribed methods in Table 6 to subpart DDDDD at the discretion of the source owner or operator. Therefore, publishing a list of or adding to the list of approved methods is not necessary. Similarly, State or EPA approval of equivalent methods is not necessary.

V. Statutory and Executive Order Reviews

A. Executive Order 12866: Regulatory Planning and Review

Under Executive Order 12866 (58 FR 51735, October 4, 1993), this action is a “significant regulatory action” because it is likely to raise novel legal or policy issues arising out of legal mandates, the President's priorities, or the principles set forth in the Executive Order. Accordingly, EPA submitted this action to the Office of Management and Budget (OMB) for review under Executive Order 12866 and any changes made in response to OMB recommendations have been documented in the docket for this action.

B. Paperwork Reduction Act

This final action imposes no new information collection requirements on the industry. Because there is no additional burden on the industry as a result of the final rule amendments, the information collection request has not been revised. OMB has previously approved the information collection requirements contained in the existing regulations under the provisions of the Paperwork Reduction Act, 44 U.S.C. 3501 et seq., and has assigned OMB control number 2060-0551 (EPA No. 2028.02). A copy of the OMB approved Information Collection Request (ICR) may be obtained from Susan Auby, Collection Strategies Division, U.S. Environmental Protection Agency (2822T); 1200 Pennsylvania Ave., NW., Washington, DC 20460 or by calling (202) 566-1672.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations are listed in 40 CFR part 9.

C. Regulatory Flexibility Act

The Regulatory Flexibility Act generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impact of this final rule on small entities, a small entity is defined as: (1) A small business as defined by the Small Business Administration's regulations at 13 CFR 121.201; (2) a small governmental jurisdiction that is a government of a city, country, town, school district or special district with a population of less than 50,000; and (3) a small organization that is any not-for-profit enterprise which is independently owned and operated and that is not dominant in its field.

After considering the economic impacts of this final rule on small entities, we certify that this action will not have a significant economic impact on a substantial number of small entities. EPA has determined that none of the small entities will experience a significant impact because the final rule imposes no additional regulatory requirements on owners or operators of affected sources.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in the aggregate, or by the private section, of $100 million or more in any 1 year. Before promulgating an EPA rule for which a written statement is needed, section 205 of the UMRA generally requires EPA to identify and consider a reasonable number of regulatory alternatives and adopt the least costly, most cost effective, for least-burdensome alternative that achieves the objectives of the rule. The provisions of section 205 do not apply when they are inconsistent with applicable law. Moreover, section 205 allows EPA to adopt an alternative other than the least costly, most cost-effective, or least burdensome alternative if the Administrator publishes with the final rule an explanation why that alternative was not adopted. Before EPA establishes any regulatory requirements that may significantly or uniquely affect small governments, including tribal governments, it must have developed, under section 203 of the UMRA, a small government agency plan. The plan must provide for notifying potentially affected small governments, enabling officials of affected small governments to have meaningful and timely input in the development of EPA's regulatory proposals with significant Federal intergovernmental mandates, and informing, educating, and advising small governments on compliance with the regulatory requirements.

EPA has determined that this final rule does not contain a Federal mandate that may result in expenditures of $100 million or more for State, local, and tribal governments, in the aggregate, or the private sector in any 1 year. Although the original NESHAP had annualized costs estimated to range from $690 to $860 million (depending on the number of facilities eventually demonstrating eligibility for the health-based compliance alternatives), this final rule does not add new requirements that would increase this cost. Thus, this final rule is not subject to the requirements of sections 202 and 205 of the UMRA. In addition, EPA has determined that this final rule does not significantly or uniquely affect small governments because it contains no requirements that apply to such governments or impose obligations upon them. Therefore, this final rule is not subject to section 203 of the UMRA.

E. Executive Order 13132: Federalism

Executive Order 13132 (64 FR 43255, August 10, 1999) requires EPA to develop an accountable process to ensure “meaningful and timely input by State and local officials in the development of regulatory policies that have federalism implications.” “Policies that have federalism implications” are defined in the Executive Order to include regulations that have “substantial direct effects on the States, on the relationship between the national government and the States, or on the distribution of power and responsibilities among the various levels of government.”

This final rule does not have federalism implications. It will not have substantial direct effects on the States, on the relationship between the national government and the States, or on the distribution of power and responsibilities among the various levels of government, as specified in Executive Order 13132. The requirements discussed in this action will not supersede State regulations that are more stringent. Thus, Executive Order 13132 does not apply to this final rule.

F. Executive Order 13175: Consultation and Coordination With Indian Tribal Governments

Executive Order 13175 (65 FR 67249, November 6, 2000) requires EPA to develop an accountable process to ensure “meaningful and timely input by tribal officials in the development of regulatory policies that have tribal implications.”

This final rule does not have tribal implications. It will not have substantial direct effects on tribal governments, on the relationship between the Federal government and Indian tribes, or the distribution of power and responsibilities between the Federal government and Indian tribes, as specified in Executive Order 13175. No affected facilities are owned or operated by Indian tribal governments. Thus, Executive Order 13175 does not apply to this final rule.

G. Executive Order 13045: Protection of Children From Environmental Health and Safety Risks

Executive Order 13045 (62 FR 19885, April 23, 1997) applies to any rule that: (1) Is determined to be “economically significant,” as defined under Executive Order 12866, and (2) concerns an environmental health or safety risk that EPA has reason to believe may have a disproportionate effect on children. If the regulatory action meets both criteria, EPA must evaluate the environmental health or safety effects of the planned rule on children and explain why the planned regulation is preferable to other potentially effective and reasonably feasible alternatives considered by EPA.

This final rule is not subject to the Executive Order because EPA does not have reason to feel that the environmental health or safety risks associated with the emissions addressed by this action presents a disproportionate risk to children. This demonstration is based on the fact that this action does not affect the emissions limits contained in this final rule.

H. Executive Order 13211: Actions Concerning Regulations That Significantly Affect Energy Supply, Distribution, or Use

This final rule is not a “significant energy actions” as defined in Executive Order 13211 (66 FR 28355, May 22, 2001) because it is not likely to have a significant adverse effect on the supply, distribution, or use of energy. Further, we have concluded that this action is not likely to have any adverse energy effect.

I. National Technology Transfer and Advancement Act

As noted in the final rule, section 12(d) of the National Technology Transfer and Advancement Act (NTTAA) of 1995 (Pub. L. 104-113; 15 U.S.C. 272 note) directs EPA to use voluntary consensus standards in their regulatory and procurement activities unless to do so would be inconsistent with applicable law or otherwise impracticable. Voluntary consensus standards are technical standards (e.g., material specifications, test methods, sampling procedures, business practices) developed or adopted by one or more voluntary consensus bodies. The NTTAA requires EPA to provide Congress, through the OMB, with explanations when EPA decides not to use available and applicable voluntary consensus standards.

This action involves technical standards. During the development of this final rule, EPA searched for voluntary consensus standards that might be applicable. EPA adopted the following standards in this final rule: (1) ASTM D2013-04, “Standard Practice for Preparing Coal Samples for Analysis,” (2) ASTM D2234-D2234M-03E01, “Standard Practice for Collection of a Gross Sample of Coal,” (3) ASTM D6721-01, “Standard Test Method for Determination of Chlorine in Coal by Oxidative Hydroylsis Microcoulometry,” (4) ASTM D3173-03, “Standard Test Method for Moisture in the Analysis Sample of Coal and Coke,” (5) ASTM D4606-03, “Standard Test Method for Determination of Arsenic and Selenium in Coal by the Hydride Generation/Atomic Absorption Method,” (6) ASTM D6357-04, “Standard Test Methods for Determination of Trace Elements in Coal, Coke, and Combustion Residues from Coal Utilization Processes by Inductively Coupled Plasma Atomic Emission Spectrometry, Inductively Coupled Plasma Mass Spectrometry, and Graphite Furnace Atomic Absorption Spectrometry,” (7) ASTM D6722-01, “Standard Test Method for Total Mercury in Coal and Coal Combustion Residues by the Direct Combustion Analysis,” and (8) ASTM D5865-04, “Standard Test Method for Gross Calorific Value of Coal and Coke.”

Table 6 to subpart DDDDD of 40 CFR part 63 lists the fuel analysis methods included in this final rule. Under 40 CFR 63.7(f) in subpart A of the General Provisions, a source may apply to EPA for permission to use alternative test methods or alternative monitoring requirements in place of any required testing methods, performance specifications, or procedures.

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2). This final rule will be effective February 5, 2007.

List of Subjects in 40 CFR Part 63

Environmental protection, Administrative practice and procedures, Air pollution control, Hazardous substances, Incorporation by reference, Intergovernmental relations, Reporting and recordkeeping requirements.

Dated: November 30, 2006.
Stephen L. Johnson,
Administrator.

For the reasons stated in the preamble, title 40, chapter 1 of the code of Federal Regulations is amended to read as follows:

PART 63—[AMENDED]

1. The authority citation for part 63 continues to read as follows:

Authority: 42 U.S.C. 7401, et seq.

Subpart A—[Amended]

2. Section 63.14 is amended by adding paragraphs (b)(55) through (62) to read as follows:

§ 63.14 Incorporation by reference.

* * * * *

(b) * * *

(55) ASTM D2013-04, Standard Practice for Preparing Coal Samples for Analysis, IBR approved for Table 6 to subpart DDDDD of this part.

(56) ASTM D2234-D2234M-03€1, Standard Practice for Collection of a Gross Sample of Coal, IBR approved for Table 6 to subpart DDDDD of this part.

(57) ASTM D6721-01, Standard Test Method for Determination of Chlorine in Coal by Oxidative Hydrolysis Microcoulometry, IBR approved for Table 6 to subpart DDDDD of this part.

(58) ASTM D3173-03, Standard Test Method for Moisture in the Analysis Sample of Coal and Coke, IBR approved for Table 6 to subpart DDDDD of this part.

(59) ASTM D4606-03, Standard Test Method for Determination of Arsenic and Selenium in Coal by the Hydride Generation/Atomic Absorption Method, IBR approved for Table 6 to subpart DDDDD of this part.

(60) ASTM D6357-04, Standard Test Methods for Determination of Trace Elements in Coal, Coke, and Combustion Residues from Coal Utilization Processes by Inductively Coupled Plasma Atomic Emission Spectrometry, Inductively Coupled Plasma Mass Spectrometry, and Graphite Furnace Atomic Absorption Spectrometry, IBR approved for Table 6 to subpart DDDDD of this part.

(61) ASTM D6722-01, Standard Test Method for Total Mercury in Coal and Coal Combustion Residues by the Direct Combustion Analysis, IBR approved for Table 6 to subpart DDDDD of this part.

(62) ASTM D5865-04, Standard Test Method for Gross Calorific Value of Coal and Coke, IBR approved for Table 6 to subpart DDDDD of this part.

* * * * *

Subpart DDDDD—[Amended]

3. Section 63.7491 is amended by revising paragraph (c) to read as follows:

§ 63.7491 Are any boilers or process heaters not subject to this subpart?

* * * * *

(c) An electric utility steam generating unit (including a unit covered by 40 CFR part 60, subpart Da) or a Mercury (Hg) Budget unit covered by 40 CFR part 60, subpart HHHH.

* * * * *

4. Section 63.7510 is amended by revising paragraph (a) to read as follows:

§ 63.7510 What are my initial compliance requirements and by what date must I conduct them?

(a) For affected sources that elect to demonstrate compliance with any of the emission limits of this subpart through performance testing, your initial compliance requirements include conducting performance tests according to § 63.7520 and Table 5 to this subpart, conducting a fuel analysis for each type of fuel burned in your boiler or process heater according to § 63.7521 and Table 6 to this subpart, establishing operating limits according to § 63.7530 and Table 7 to this subpart, and conducting CMS performance evaluations according to § 63.7525. For affected sources that burn a single type of fuel, you are exempted from the initial compliance requirements of conducting a fuel analysis for each type of fuel burned in your boiler or process heater according to § 63.7521 and Table 6 to this subpart.

* * * * *

5. Section 63.7522 is amended as follows:

a. By revising paragraph (b),

b. By revising paragraph (c),

c. By revising paragraph (d),

d. By revising paragraph (e),

e. By revising paragraph (f), and

f. By adding paragraphs (h) through (k).

§ 63.7522 Can I use emission averaging to comply with this subpart?

* * * * *

(b) Separate stack requirements. For a group of two or more existing large solid fuel boilers that each vent to a separate stack, you may average particulate matter or TSM, HCl and mercury emissions to demonstrate compliance with the limits in Table 1 to this subpart if you satisfy the requirements in paragraphs (c), (d), (e), (f), and (g) of this section.

(c) For each existing large solid fuel boiler in the averaging group, the emission rate achieved during the initial compliance test for the HAP being averaged must not exceed the emission level that was being achieved on November 12, 2004 or the control technology employed during the initial compliance test must not be less effective for the HAP being averaged than the control technology employed on November 12, 2004.

(d) The emissions rate from the existing large solid fuel boilers participating in the emissions averaging option must be in compliance with the limits in Table 1 to this subpart at all times following the compliance date specified in § 63.7495.

(e) You must demonstrate initial compliance according to paragraph (e)(1) or (2) of this section.

(1) You must use Equation 1 of this section to demonstrate that the particulate matter or TSM, HCl, and mercury emissions from all existing large solid fuel boilers participating in the emissions averaging option do not exceed the emission limits in Table 1 to this subpart.

Where:

Ave Weighted Emissions = Average weighted emissions for particulate matter or TSM, HCl, or mercury, in units of pounds per million Btu of heat input.

Er = Emission rate (as calculated according to Table 5 to this subpart or by fuel analysis (as calculated by the applicable equation in § 63.7530(d))) for boiler, i, for particulate matter or TSM, HCl, or mercury, in units of pounds per million Btu of heat input.

Hm = Maximum rated heat input capacity of boiler, i, in units of million Btu per hour.

n = Number of large solid fuel boilers participating in the emissions averaging option.

(2) If you are not capable of monitoring heat input, you may use Equation 2 of this section as an alternative to using Equation 1 of this section to demonstrate that the particulate matter or TSM, HCl, and mercury emissions from all existing large solid fuel boilers participating in the emissions averaging option do not exceed the emission limits in Table 1 to this subpart.

Where:

Ave Weighted Emissions = Average weighted emission level for PM or TSM, HCl, or mercury, in units of pounds per million Btu of heat input.

Er = Emission rate (as calculated according to Table 5 to this subpart or by fuel analysis (as calculated by the applicable equation in § 63.7530(d))) for boiler, i, for particulate matter or TSM, HCl, or mercury, in units of pounds per million Btu of heat input.

Sm = Maximum steam generation by boiler, i, in units of pounds.

Cf = Conversion factor, calculated from the most recent compliance test, in units of million Btu of heat input per pounds of steam generated.

(f) You must demonstrate continuous compliance on a monthly basis determined at the end of every month (12 times per year) according to paragraphs (f)(1) through (3) of this section. The first monthly period begins on the compliance date specified in § 63.7495.

(1) For each calendar month, you must use Equation 3 of this section to calculate the monthly average weighted emission rate using the actual heat capacity for each existing large solid fuel boiler participating in the emissions averaging option.

Where:

Ave Weighted Emissions = monthly average weighted emission level for particulate matter or TSM, HCl, or mercury, in units of pounds per million Btu of heat input.

Er = Emission rate, (as calculated during the most recent compliance test, (as calculated according to Table 5 to this subpart) or fuel analysis (as calculated by the applicable equation in § 63.7530(d)) for boiler, i, for particulate matter or TSM, HCl, or mercury, in units of pounds per million Btu of heat input.

Hb = The average heat input for each calendar month of boiler, i, in units of million Btu.

n = Number of large solid fuel boilers participating in the emissions averaging option.

(2) If you are not capable of monitoring heat input, you may use Equation 4 of this section as an alternative to using Equation 3 of this section to calculate the monthly weighted emission rate using the actual steam generation from the large solid fuel boilers participating in the emissions averaging option.

Where:

Ave Weighted Emissions = monthly average weighted emission level for PM or TSM, HCl, or mercury, in units of pounds per million Btu of heat input.

Er = Emission rate, (as calculated during the most recent compliance test (as calculated according to Table 5 to this subpart) or by fuel analysis (as calculated by the applicable equation in § 63.7530(d))) for boiler, i, for particulate matter or TSM, HCl, or mercury, in units of pounds per million Btu of heat input.

Sa = Actual steam generation for each calendar month by boiler, i, in units of pounds.

Cf = Conversion factor, as calculated during the most recent compliance test, in units of million Btu of heat input per pounds of steam generated.

(3) Until 12 monthly weighted average emission rates have been accumulated, calculate and report only the monthly average weighted emission rate determined under paragraph (f)(1) or (2) of this section. After 12 monthly weighted average emission rates have been accumulated, for each subsequent calendar month, use Equation 4A of this section to calculate the 12-month rolling average of the monthly weighted average emission rates for the current month and the previous 11 months.

Where:

Eavg = 12-month rolling average emission rate, (pounds per million Btu heat input)

ERi = Monthly weighted average, for month “i”, (pounds per million Btu heat input)(as calculated by (f)(1) or (2))

* * * * *

(h) Common stack requirements. For a group of two or more existing large solid fuel boilers, each of which vents through a single common stack, you may average particulate matter or TSM, HCl and mercury to demonstrate compliance with the limits in Table 1 to this subpart if you satisfy the requirements in paragraph (i) or (j) of this section.

(i) For a group of two or more existing large solid fuel boilers, each of which vents through a common emissions control system to a common stack, that does not receive emissions from units in other subcategories or categories, you may treat such averaging group as a single existing solid fuel boiler for purposes of this subpart and comply with the requirements of this subpart as if the group were a single boiler.

(j) For all other groups of boilers subject to paragraph (h) of this section, the owner or operator may elect to:

(1) Conduct performance tests according to procedures specified in § 63.7520 in the common stack (if affected units from other subcategories (e.g., gas-fired units) or nonaffected units vent to the common stack, the units from other subcategories and nonaffected units must be shut down or vented to a different stack during the performance test); and

(2) Meet the applicable operating limit specified in § 63.7540 and Table 8 to this subpart for each emissions control system (except that, if each boiler venting to the common stack has an applicable opacity operating limit, then a single continuous opacity monitoring system may be located in the common stack instead of in each duct to the common stack).

(k) Combination requirements. The common stack of a group of two or more boilers subject to paragraph (h) of this section may be treated as a separate stack for purposes of paragraph (b) of this section and included in an emissions averaging group subject to paragraph (b) of this section.

6. Section 63.7525 is amended by revising paragraphs (a) introductory text and (a)(1) to read as follows:

§ 63.7525 What are my monitoring, installation, operation, and maintenance requirements?

(a) If you have an applicable work practice standard for carbon monoxide, and your boiler or process heater is in any of the large subcategories and has a heat input capacity of 100 MMBtu per hour or greater, you must install, operate, and maintain a continuous emission monitoring system (CEMS) for carbon monoxide and oxygen according to the procedures in paragraphs (a)(1) through (6) of this section by the compliance date specified in § 63.7495. The carbon monoxide and oxygen shall be monitored at the same location at the outlet of the boiler or process heater.

(1) Each CEMS must be installed, operated, and maintained according to the applicable procedures under Performance Specification (PS) 3 or 4A of 40 CFR part 60, appendix B, and according to the site-specific monitoring plan developed according to § 63.7505(d).

* * * * *

7. Section 63.7540 is amended by revising paragraph (a)(4) to read as follows:

§ 63.7540 How do I demonstrate continuous compliance with the emission limits and work practice standards?

(a) * * *

(4) If you demonstrate compliance with an applicable HCl emission limit through performance testing and you plan to burn a new type of fuel or a new mixture of fuels, you must recalculate the maximum chlorine input using Equation 5 of § 63.7530. If the results of recalculating the maximum chlorine input using Equation 5 of § 63.7530 are higher than the maximum chlorine input level established during the previous performance test, then you must conduct a new performance test within 60 days of burning the new fuel type or fuel mixture according to the procedures in § 63.7520 to demonstrate that the HCl emissions do not exceed the emission limit. You must also establish new operating limits based on this performance test according to the procedures in § 63.7530(c).

* * * * *

8. Section 63.7541 is amended as follows:

a. By revising paragraph (a) introductory text,

b. By revising paragraph (a)(2),

c. By adding paragraph (a)(5), and

d. By revising paragraph (b).

§ 63.7541 How do I demonstrate continuous compliance under the emission averaging provision?

(a) Following the compliance date, the owner or operator must demonstrate compliance with this subpart on a continuous basis by meeting the requirements of paragraphs (a)(1) through (5) of this section.

* * * * *

(2) You must maintain the applicable opacity limit according to paragraphs (a)(2)(i) through (ii) of this section.

(i) For each existing solid fuel boiler participating in the emissions averaging option that is equipped with a dry control system and not vented to a common stack, maintain opacity at or below the applicable limit.

(ii) For each group of boilers participating in the emissions averaging option where each boiler in the group is an existing solid fuel boiler equipped with a dry control system and vented to a common stack that does not receive emissions from affected units from other subcategories or nonaffected units, maintain opacity at or below the applicable limit at the common stack;

* * * * *

(5) For each existing large solid fuel boiler participating in the emissions averaging option venting to a common stack configuration containing affected units from other subcategories and/or nonaffected units, maintain the appropriate operating limit for each unit as specified in Tables 2 through 4 to this subpart that applies.

(b) Any instance where the owner or operator fails to comply with the continuous monitoring requirements in paragraphs (a)(1) through (5) of this section, except during periods of startup, shutdown, and malfunction, is a deviation.

9. Section 63.7575 is amended as follows:

a. By revising the definitions for “Firetube boiler,” “Fuel type,” “Large gaseous fuel subcategory,” “Large liquid fuel subcategory,” “Large solid fuel subcategory,” “Small gaseous fuel subcategory,” “Small liquid fuel subcategory,” “Watertube boiler,” and

b. By adding definitions for “Common Stack,” “Equivalent,” and “Voluntary Consensus Standard” in alphabetical order.

§ 63.7575 What definitions apply to this subpart?

* * * * *

Common Stack means the exhaust of emissions from two or more affected units through a single flue.

* * * * *

Equivalent means the following only as this term is used in Table 6 to subpart DDDDD:

(1) An equivalent sample collection procedure means a published voluntary consensus standard or practice (VCS) or EPA method that includes collection of a minimum of three composite fuel samples, with each composite consisting of a minimum of three increments collected at approximately equal intervals over the test period.

(2) An equivalent sample compositing procedure means a published VCS or EPA method to systematically mix and obtain a representative subsample (part) of the composite sample.

(3) An equivalent sample preparation procedure means a published VCS or EPA method that: Clearly states that the standard, practice or method is appropriate for the pollutant and the fuel matrix; or is cited as an appropriate sample preparation standard, practice or method for the pollutant in the chosen VCS or EPA determinative or analytical method.

(4) An equivalent procedure for determining heat content means a published VCS or EPA method to obtain gross calorific (or higher heating) value.

(5) An equivalent procedure for determining fuel moisture content means a published VCS or EPA method to obtain moisture content. If the sample analysis plan calls for determining metals (especially the mercury, selenium, or arsenic) using an aliquot of the dried sample, then the drying temperature must be modified to prevent vaporizing these metals. On the other hand, if metals analysis is done on an “as received” basis, a separate aliquot can be dried to determine moisture content and the metals concentration mathematically adjusted to a dry basis.

(6) An equivalent pollutant (mercury, TSM, or total chlorine) determinative or analytical procedure means a published VCS or EPA method that clearly states that the standard, practice, or method is appropriate for the pollutant and the fuel matrix and has a published detection limit equal or lower than the methods listed in Table 6 to subpart DDDDD for the same purpose.

* * * * *

Firetube boiler means a boiler that utilizes a containment shell that encloses firetubes (tubes in a boiler having water on the outside and carrying the hot gases of combustion inside), and allows the water to vaporize and steam to separate. Hybrid boilers that have been registered/certified by the National Board of Boiler and Pressure Vessel Inspectors and/or the State as firetube boilers as indicated by “Form P-2” (Manufacturers' Data Report for All Types of Boilers Except Watertube and Electric, As Required by the Provisions of the ASME Code Rules, Section I), are considered to be firetube boilers for the purpose of this subpart.

* * * * *

Fuel type means each category of fuels that share a common name or classification. Examples include, but are not limited to, bituminous coal, subbituminous coal, lignite, anthracite, biomass, construction/demolition material, salt water laden wood, creosote treated wood, tires, residual oil. Individual fuel types received from different suppliers are not considered new fuel types except for construction/demolition material. Contraband, prohibited goods, or retired U.S. flags, burned at the request of a government agency, are not considered a fuel type for the purpose of this subpart.

* * * * *

Large gaseous fuel subcategory includes any watertube boiler or process heater that burns gaseous fuels not combined with any solid fuels, burns liquid fuel only during periods of gas curtailment, gas supply emergencies, or for periodic testing of liquid fuel, has a rated capacity of greater than 10 MMBtu per hour heat input, and does not have a federally enforceable annual average capacity factor of equal to or less than 10 percent. Periodic testing of liquid fuel is not to exceed a combined total of 48 hours during any calendar year.

Large liquid fuel subcategory includes any watertube boiler or process heater that does not burn any solid fuel and burns any liquid fuel either alone or in combination with gaseous fuels, has a rated capacity of greater than 10 MMBtu per hour heat input, and does not have a federally enforceable annual average capacity factor of equal to or less than 10 percent. Large gaseous fuel boilers and process heaters that burn liquid fuel during periods of gas curtailment, gas supply emergencies or for periodic testing of liquid fuel not to exceed a combined total of 48 hours during any calendar year are not included in this definition.

Large solid fuel subcategory includes any watertube boiler or process heater that burns any amount of solid fuel either alone or in combination with liquid or gaseous fuels, has a rated capacity of greater than 10 MMBtu per hour heat input, and does not have a federally enforceable annual average capacity factor of equal to or less than 10 percent.

* * * * *

Small gaseous fuel subcategory includes any size of firetube boiler and any other boiler or process heater with a rated capacity of less than or equal to 10 MMBtu per hour heat input that burn gaseous fuels not combined with any solid fuels and burns liquid fuel only during periods of gas curtailment, gas supply emergencies, or for periodic testing of liquid fuel. Periodic testing is not to exceed a combined total of 48 hours during any calendar year.

Small liquid fuel subcategory includes any size of firetube boiler and any other boiler or process with a rated capacity of less than or equal to 10 MMBtu per hour heat input that do not burn any solid fuel and burn any liquid fuel either alone or in combination with gaseous fuels. Small gaseous fuel boilers and process heaters that burn liquid fuel during periods of gas curtailment, gas supply emergencies or for periodic testing of liquid fuel not to exceed a combined total of 48 hours during any calendar year are not included in this definition.

* * * * *

Watertube boiler means a boiler that incorporates a steam drum with tubes connected to the drum to separate steam from water.

* * * * *

Voluntary Consensus Standards or VCS mean technical standards (e.g., materials specifications, test methods, sampling procedures, business practices) developed or adopted by one or more voluntary consensus bodies. EPA/OAQPS has by precedent only used VCS that are written in English. Examples of VCS bodies are: American Society of Testing and Materials (ASTM), American Society of Mechanical Engineers (ASME), International Standards Organization (ISO), Standards Australia (AS), British Standards (BS), Canadian Standards (CSA), European Standard (EN or CEN) and German Engineering Standards (VDI). The types of standards that are not considered VCS are standards developed by: the U.S. states, e.g., California (CARB) and Texas (TCEQ); industry groups, such as American Petroleum Institute (API), Gas Processors Association (GPA), and Gas Research Institute (GRI); and other branches of the U.S. government, e.g. Department of Defense (DOD) and Department of Transportation (DOT). This does not preclude EPA from using standards developed by groups that are not VCS bodies within their rule. When this occurs, EPA has done searches and reviews for VCS equivalent to these non-EPA methods.

* * * * *

10. Table 6 and text before table to subpart DDDDD are revised to read as follows:

As stated in § 63.7521, you must comply with the following requirements for fuel analysis testing for existing, new or reconstructed affected sources. However, equivalent methods may be used in lieu of the prescribed methods at the discretion of the source owner or operator:

Table 6.—To Subpart DDDDD of Part 63—Fuel Analysis Requirements
To conduct a fuel analysis for the following pollutant * * * | You must * * * | Using * * *
1. Mercury * * * | a. Collect fuel samples * * * | Procedure in § 63.7521(c) or ASTM D2234-D2234M-03€1 (for coal) (IBR, see § 63.14(b)) or ASTM D6323-98 (2003) (for biomass) (IBR, See § 63.14(b)) or equivalent.
| b. Composite fuel samples * * * | Procedure in § 63.7521(d) or equivalent.
| c. Prepare composited fuel samples * * * | SW-846-3050B (for solid samples) or SW-846-3020A (for liquid samples) or ASTM D2013-04 (for coal) (IBR, see § 63.14(b)) or ASTM D5198-92 (2003) (for biomass) (IBR, see § 63.14(b)) or equivalent.
| d. Determine heat content of the fuel type * * * | ASTM D5865-04 (for coal) (IBR, see § 63.24(b)) or ASTM E711-87 (for biomass) (IBR, see § 63.14(b)) or equivalent.
| e. Determine moisture content of the fuel type * * * | ASTM D3173-03 (IBR, see § 63.14(b)) or ASTM E871-82 (1998) (IBR, see § 63.14(b)) or equivalent.
| f. Measure mercury concentration in fuel sample * * * | ASTM D6722-01 (for coal) (IBR, see § 6314(b)) or SW-846-7471A (for solid samples) or SW-846-7470A (for liquid samples or equivalent.
| g. Convert concentration into units of pounds of pollutant per MMBtu of heat content. |
2. Total Selected metals * * * | a. Collect fuel samples * * * | Procedure in § 63.7521(c) or ASTM D2234-D2234M-03€1 (for coal) (IBR, see § 63.14(b)) or ASTM D6323-98 (2003) (for biomass) (IBR, see § 63.14(b)) or equivalent.
| b. Composite fuel samples * * * | Procedure in § 63.7521(d) or equivalent.
| c. Prepare composited fuel samples * * * | SW-846-3050B (for solid samples) or SW-846-3020A (for liquid samples) or ASTM D2013-04 (for coal) (IBR, see § 63.14(b)) or ASTM D5198-92 (2003) (for biomass (IBR, see § 63.14(b)) or equivalent.
| d. Determine heat content of the fuel type * * * | ASTM D5865-04 (for coal) (IBR, see § 63.14(b)) or ASTM E711-87 (for biomass) (IBR, see § 63.14(b)) or equivalent.
| e. Determine moisture content of the fuel type * * * | ASTM D3173-03 (IBR, see § 63.14(b)) or ASTM E871-82 (IBR, see § 63.14(b)) or equivalent.
| f. Measure total selected metals concentration in fuel sample * * * | SW-846-6010B or ASTM D6357-04 (for arsenic, beryllium, cadmium, chromium, lead, manganese, and nickel for all solid fuels) and ASTM D4606-03 (for selenium in coal) (IBR, see § 63.14(b)) or ASTM E885-88 (1996) for biomass) (IBR, see § 63.14(b)) or equivalent.
| g. Convert concentrations into units of pounds of pollutant per MMBtu of heat content. |
3. Hydrogen Chloride * * * | a. Collect fuel samples * * * | Procedure in § 63.7521(c) or ASTM D2234-D2234M-03€1 (for coal) (IBR, see § 63.14(b)) or ASTM D6323-98 (2003) (for biomass) (IBR, see § 63.14(b)) or equivalent.
| b. Composite fuel samples * * * | Procedure in § 63.7521(d) or equivalent.
| c. Prepare composited fuel samples * * * | SW-846-3050B (for solid samples) or SW-846-3020A (for liquid samples) or ASTM D2013-04 (for coal) (IBR, see § 63.14(b)) or ASTM D5198-92 (2003) (for biomass) (IBR, see § 63.14(b)) or equivalent.
| d. Determine heat content of the fuel type * * * | ASTM D5865-04 (for coal) (IBR, see § 63.14(b)) or ASTM E711-87 (1996) (for biomass) (IBR, see § 63.14(b)) or equivalent.
| e. Determine moisture content of the fuel type * * * | ASTM D3173-03 (IBR, see § 63.14(b)) or ASTM E871-82 (1998) or equivalent.
| f. Measure chlorine concentration in fuel sample * * * | SW-846-9250 or ASTM D6721-01 (for coal) or ASTM E776-87 (1996) (for biomass) (IBR, see § 63.14(b)) or equivalent.
| g. Convert concentrations into units of pounds of pollutant per MMBtu of heat content. |

[FR Doc. E6-20637 Filed 12-5-06; 8:45 am]

BILLING CODE 6560-50-P